DEPARTMENT OF THE INTERIOR

Bureau of Land Management

[WY-050-2001-1060-JJ]

Notice of Intent To Remove Excess and Stray Wild Horses

AGENCY: Bureau of Land Management, Interior.

ACTION: Notice of intent to remove excess and stray wild horses.

SUMMARY: The Lander Field Office of the Bureau of Land Management in Wyoming plans to remove 80—90 excess horses from the Crooks Mountain HMA, 220 excess horses from the Green Mountain HMA and 10—20 stray horses from an area south and east of the Crooks Mountain HMA into which horses have strayed outside of the HMA.

SUPPLEMENTARY INFORMATION: The Wild, Free Roaming Horse and Burro Act (PL. 92-195) requires that, among other things, horses that exceed the Appropriate Management Levels (AMLs) established for them or stray from designated Herd Management Areas (HMAs) be removed. In order to accomplish that, the Lander Field Office of the Bureau of Land Management in Wyoming plans to remove 80—90 excess horses from the Crooks Mountain HMA, 220 excess horses from the Green Mountain HMA and 10—20 stray horses from an area south and east of the Crooks Mountain HMA into which horses have strayed outside of the HMA. In addition, the Rawlins Field Office plans to remove approximately 700 horses from the Adobe Town HMA and the far Eastern portion of the Salt Wells HMA which adjoins the Adobe Town HMA and horses freely move back and forth, and approximately 150 stray horses from an area outside and to the North of the Adobe Town HMA known as I-80 South. The removals are scheduled for the summer/fall seasons of 2002 and will begin approximately July 15. Specific dates for the various HMAs depend on the weather and soil conditions, and possibly other factors unforseen at this time. None of these actions will result in taking any HMA below the AML range established for it. Environmental documents relating to these operations may be viewed at http://www.wy.blm.gov/wh/docs.htm.

FOR FURTHER INFORMATION CONTACT: For further information, please contact Roy Packer, Bureau of Land Management, Lander Field Office, 1335 Main Street, P.O. Box 589, Lander, Wyoming 82520, (307) 332-8400. Chuck Reed, Bureau of Land Management, 1300 N. Third, P.O. Box 2407, Rawlins, Wyoming 82301-2407, Phone: (307) 328-4200 or (307) 328-4256.

Dated: April 29, 2002.
Alan L. Kesterke,
Associate State Director.

[FR Doc. 02-15307 Filed 6-17-02; 8:45 am]

BILLING CODE 4310-22-P